DEPARTMENT OF COMMERCE

Foreign-Trade Zones Board

[Docket 39-2006]

Foreign-Trade Zone 29 - Louisville, Kentucky, Application for Subzone Status, NACCO Materials Handling Group, Inc., Plant, (Forklift Trucks), Amendment of Application: Additional Site

Notice is hereby given that the application submitted by the Louisville and Jefferson County Riverport Authority, grantee of FTZ 29, requesting special-purpose subzone status for the forklift truck manufacturing facility of NACCO Materials Handling Group, Inc. (NMHG), located in Berea, Kentucky (71 FR 54611, 9-18-2006) has been amended to include an additional site (1 warehouse/195,000 sq.ft./22 acres) comprised of Building 105 located at 145 Hi Lane Drive in Richmond (Madison County), Kentucky.

Public comment is invited from interested parties. The comment period is hereby reopened until [30 days from date of publication]. Submissions (original and 3 copies) shall be addressed to the Board's Executive Secretary at the address below.

A copy of the application and the amendment is available for public inspection at each of the following locations: U.S. Department of Commerce Export Assistance Center, 1600 World Trade Center, 333 W. Vine Street, Lexington, Kentucky 40507; and, Office of the Executive Secretary, Foreign-Trade Zones Board, Room 2111, U.S. Department of Commerce, 1401 Constitution Avenue, NW, Washington, District of Columbia 20230-0002. For further information, contact Pierre Duy, examiner, at pierre_duy@ita.doc.gov, or (202) 482-1378.

Dated: July 10, 2007.
Andrew McGilvray,
Executive Secretary.

[FR Doc. E7-13823 Filed 7-16-07; 8:45 am]

BILLING CODE 3510-DS-S